FEDERAL COMMUNICATIONS COMMISSION

FCC To Hold Open Commission Meeting Thursday, February 26, 2015

February 19, 2015.

The Federal Communications Commission will hold an Open Meeting on the subjects listed below on Thursday, February 26, 2015. The meeting is scheduled to commence at 9:30 a.m. in Room TW-C305, at 445 12th Street SW., Washington, DC.

Item No. | Bureau | Subject
1 | WIRELINE COMPETITION AND GENERAL COUNSEL | TITLE: City of Wilson, North Carolina Petition for Preemption of North Carolina General Statue Sections 160A-340 et. seq. (WC Docket No. 14-115); The Electric Power Board of Chattanooga, Tennessee Petition for Preemption of a Portion of Tennessee Code Annotated Section 7-52-601 (WC Docket No. 14-116).
|  | SUMMARY: The Commission will consider a Memorandum Opinion and Order addressing petitions filed by two municipal broadband providers asking that the Commission preempt provisions of state laws in North Carolina and Tennessee that restrict the abilities of communities to provide broadband service.
2 | WIRELINE COMPETITION, WIRELESS TELECOMMUNICATIONS AND GENERAL COUNSEL | TITLE: Protecting and Promoting the Open Internet (GN Docket No. 14-28).
|  | SUMMARY: The Commission will consider a Report and Order on Remand, Declaratory Ruling, and Order that responds to the Verizon court remand and adopts strong open Internet rules, grounded in multiple sources of the Commission's legal authority, to ensure that Americans reap the economic, social, and civic benefits of an open Internet today and into the future.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (tty).

Additional information concerning this meeting may be obtained from Meribeth McCarrick, Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services, call (703) 993-3100 or go to www.capitolconnection.gmu.edu.

Federal Communications Commission.
Marlene H. Dortch,
Secretary.

[FR Doc. 2015-03987 Filed 2-25-15; 8:45 am]

BILLING CODE 6712-01-P